DEPARTMENT OF ENERGY

Federal Energy Regulatory Commission

Combined Notice of Filings #1

Take notice that the Commission received the following electric corporate filings:

Docket Numbers: EC24-115-000.

Applicants: CPV Backbone Solar, LLC, CPV Keenan II Renewable Energy Company, LLC, CPV Maple Hill Solar, LLC, CPV Saddleback Ridge Wind, LLC, CPV Stagecoach Solar, LLC.

Description: Joint Application for Authorization Under Section 203 of the Federal Power Act of CPV Backbone Solar, LLC, et al.

Filed Date: 8/29/24.

Accession Number: 20240829-5267.

Comment Date: 5 p.m. ET 9/19/24.

Take notice that the Commission received the following exempt wholesale generator filings:

Docket Numbers: EG24-266-000.

Applicants: BPL Crown Solar LLC.

Description: BPL Crown Solar LLC submits Notice of Self-Certification of Exempt Wholesale Generator Status.

Filed Date: 8/29/24.

Accession Number: 20240829-5223.

Comment Date: 5 p.m. ET 9/19/24.

Docket Numbers: EG24-267-000.

Applicants: BPL Files Solar LLC.

Description: BPL Files Solar LLC submits Notice of Self-Certification of Exempt Wholesale Generator Status.

Filed Date: 8/29/24.

Accession Number: 20240829-5225.

Comment Date: 5 p.m. ET 9/19/24.

Docket Numbers: EG24-268-000.

Applicants: BPL Sol Solar LLC.

Description: BPL Sol Solar LLC submits Notice of Self-Certification of Exempt Wholesale Generator Status.

Filed Date: 8/29/24.

Accession Number: 20240829-5228.

Comment Date: 5 p.m. ET 9/19/24.

Docket Numbers: EG24-270-000.

Applicants: Elisabeth Solar, LLC.

Description: Elisabeth Solar, LLC submits Notice of Self-Certification of Exempt Wholesale Generator Status.

Filed Date: 8/30/24.

Accession Number: 20240830-5109.

Comment Date: 5 p.m. ET 9/20/24.

Docket Numbers: EG24-271-000.

Applicants: Sierra Pinta Energy Storage, LLC.

Description: Sierra Pinta Energy Storage, LLC submits Notice of Self-Certification of Exempt Wholesale Generator Status.

Filed Date: 8/30/24.

Accession Number: 20240830-5111.

Comment Date: 5 p.m. ET 9/20/24.

Take notice that the Commission received the following electric rate filings:

Docket Numbers: ER10-2374-019.

Applicants: Puget Sound Energy, Inc.

Description: Response to 08/27/2024 Deficiency Letter of Puget Sound Energy, Inc.

Filed Date: 8/28/24.

Accession Number: 20240828-5192.

Comment Date: 5 p.m. ET 9/18/24.

Docket Numbers: ER22-282-002.

Applicants: El Paso Electric Company.

Description: Compliance filing: Compliance Filing of Settlement Agreement and Offer of Settlement to be effective 1/1/2022.

Filed Date: 8/30/24.

Accession Number: 20240830-5065.

Comment Date: 5 p.m. ET 9/20/24.

Docket Numbers: ER24-1318-000.

Applicants: Pelican Power LLC.

Description: Report Filing: Data supplement to 1 to be effective N/A.

Filed Date: 8/6/24.

Accession Number: 20240806-5078.

Comment Date: 5 p.m. ET 8/30/24.

Docket Numbers: ER24-2261-001.

Applicants: Duke Energy Carolinas, LLC, Duke Energy Progress, LLC.

Description: Tariff Amendment: Duke Energy Progress, LLC submits tariff filing per 35.17(b): DEC-DEP Revisions to Joint OATT Formula TR—Retail Deferral Adjustment to be effective 8/12/2024.

Filed Date: 8/30/24.

Accession Number: 20240830-5231.

Comment Date: 5 p.m. ET 9/20/24.

Docket Numbers: ER24-2923-000.

Applicants: Duke Energy Florida, LLC.

Description: Tariff Amendment: DEF-SECI Termination of Reimbursment Agmt RS No. 354 to be effective 10/31/2024.

Filed Date: 8/29/24.

Accession Number: 20240829-5226.

Comment Date: 5 p.m. ET 9/19/24.

Docket Numbers: ER24-2924-000.

Applicants: Boswell Wind, LLC.

Description: Baseline eTariff Filing: Baseline new COC to be effective 8/30/2024.

Filed Date: 8/29/24.

Accession Number: 20240829-5233.

Comment Date: 5 p.m. ET 9/19/24.

Docket Numbers: ER24-2925-000.

Applicants: New England Power Pool Participants Committee.

Description: 205(d) Rate Filing: Sep 2024 Membership Filing to be effective 9/1/2024.

Filed Date: 8/30/24.

Accession Number: 20240830-5000.

Comment Date: 5 p.m. ET 9/20/24.

Docket Numbers: ER24-2927-000.

Applicants: Midcontinent Independent System Operator, Inc.

Description: 205(d) Rate Filing: 2024-08-30_SA 4346 NSP-Elk Creek PV I GIA (J1528 J1730) to be effective 8/19/2024.

Filed Date: 8/30/24.

Accession Number: 20240830-5061.

Comment Date: 5 p.m. ET 9/20/24.

Docket Numbers: ER24-2928-000.

Applicants: ITC Midwest LLC.

Description: 205(d) Rate Filing: Filing of Seventh Amended and Restated Interconnection Agreement to be effective 10/30/2024.

Filed Date: 8/30/24.

Accession Number: 20240830-5091.

Comment Date: 5 p.m. ET 9/20/24.

Docket Numbers: ER24-2929-000.

Applicants: Kentucky Utilities Company.

Description: 205(d) Rate Filing: APCo Second Revised Amended and Restated Borderline Service Agreement to be effective 10/30/2024.

Filed Date: 8/30/24.

Accession Number: 20240830-5092.

Comment Date: 5 p.m. ET 9/20/24.

Docket Numbers: ER24-2930-000.

Applicants: Keystone Appalachian Transmission Company, PJM Interconnection, L.L.C.

Description: 205(d) Rate Filing: Keystone Appalachian Transmission Company submits tariff filing per 35.13(a)(2)(iii: KATCo submits on behalf of KATCO and MAIT IA SA No. 7182 to be effective 10/30/2024.

Filed Date: 8/30/24.

Accession Number: 20240830-5094.

Comment Date: 5 p.m. ET 9/20/24.

Docket Numbers: ER24-2931-000.

Applicants: Midcontinent Independent System Operator, Inc., Montana-Dakota Utilities Co.

Description: 205(d) Rate Filing: Midcontinent Independent System Operator, Inc. submits tariff filing per 35.13(a)(2)(iii: 2024-08-30_MDU Depreciation Rates 2024 to be effective 3/1/2024.

Filed Date: 8/30/24.

Accession Number: 20240830-5100.

Comment Date: 5 p.m. ET 9/20/24.

Docket Numbers: ER24-2932-000.

Applicants: Upper Missouri G. & T. Electric Cooperative, Inc.

Description: 205(d) Rate Filing: UMPC Revised Wholesale Power Contract to be effective 12/31/9998.

Filed Date: 8/30/24.

Accession Number: 20240830-5148.

Comment Date: 5 p.m. ET 9/20/24.

Docket Numbers: ER24-2935-000.

Applicants: Tri-State Generation and Transmission Association, Inc.

Description: 205(d) Rate Filing: Amendment to Rate Schedule FERC No. 357 to be effective 9/1/2024.

Filed Date: 8/30/24.

Accession Number: 20240830-5153.

Comment Date: 5 p.m. ET 9/20/24.

Docket Numbers: ER24-2936-000.

Applicants: Midcontinent Independent System Operator, Inc.

Description: 205(d) Rate Filing: 2024-08-30_Michigan Joint Zone Agreements Revisions to be effective 11/1/2024.

Filed Date: 8/30/24.

Accession Number: 20240830-5174.

Comment Date: 5 p.m. ET 9/20/24.

Docket Numbers: ER24-2937-000.

Applicants: Elisabeth Solar, LLC.

Description: Baseline eTariff Filing: Market-Based Rate Application to be effective 10/30/2024.

Filed Date: 8/30/24.

Accession Number: 20240830-5178.

Comment Date: 5 p.m. ET 9/20/24.

Docket Numbers: ER24-2938-000.

Applicants: Sierra Pinta Energy Storage, LLC.

Description: Baseline eTariff Filing: Market-Based Rate Application to be effective 10/30/2024.

Filed Date: 8/30/24.

Accession Number: 20240830-5181.

Comment Date: 5 p.m. ET 9/20/24.

Docket Numbers: ER24-2939-000.

Applicants: The United Illuminating Company.

Description: 205(d) Rate Filing: Volume No. 1, Wholesale Distribution Access Tariff to be effective 10/30/2024.

Filed Date: 8/30/24.

Accession Number: 20240830-5229.

Comment Date: 5 p.m. ET 9/20/24.

Docket Numbers: ER24-2940-000.

Applicants: RE Scarlet LLC.

Description: Baseline eTariff Filing: LGIA Co-Tenancy Agreement and Request for Waivers and Blanket Authorization to be effective 8/31/2024.

Filed Date: 8/30/24.

Accession Number: 20240830-5238.

Comment Date: 5 p.m. ET 9/20/24.

Docket Numbers: ER24-2941-000.

Applicants: PJM Interconnection, L.L.C.

Description: Tariff Amendment: Notice of Cancellation—WMPA Service Agreement No. 6187; Queue No. AF2-314 to be effective 10/30/2024.

Filed Date: 8/30/24.

Accession Number: 20240830-5252.

Comment Date: 5 p.m. ET 9/20/24.

Docket Numbers: ER24-2942-000.

Applicants: PJM Interconnection, L.L.C.

Description: Tariff Amendment: Notice of Cancellation—WMPA Service Agreement No. 7005; Queue No. AG1-099 to be effective 10/30/2024.

Filed Date: 8/30/24.

Accession Number: 20240830-5259.

Comment Date: 5 p.m. ET 9/20/24.

Docket Numbers: ER24-2943-000.

Applicants: PJM Interconnection, L.L.C.

Description: 205(d) Rate Filing: Original GIA, SA No. 7336; Project Identifier No. AE2-298 to be effective 8/2/2024.

Filed Date: 8/30/24.

Accession Number: 20240830-5275.

Comment Date: 5 p.m. ET 9/20/24.

Take notice that the Commission received the following electric reliability filings:

Docket Numbers: RR24-6-000.

Applicants: North American Electric Reliability Corporation, SERC Reliability Corporation.

Description: Joint Petition of North American Electric Reliability Corporation and SERC Reliability Corporation for Approval of Amendments to the Bylaws of SERC Reliability Corporation.

Filed Date: 8/29/24.

Accession Number: 20240829-5247.

Comment Date: 5 p.m. ET 9/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 30, 2024.
Debbie-Anne A. Reese,
Acting Secretary.

[FR Doc. 2024-20140 Filed 9-5-24; 8:45 am]

BILLING CODE 6717-01-P